DEPARTMENT OF HEALTH AND HUMAN SERVICES

Administration for Children and Families

Delegation of Authority; Correction

In the Federal Register document, DOCID:21jn04-50, appearing in the issue of Monday, June 21, 2004 at 69 FR 34373-34374, the fifth paragraph should reas as follows:

“This delegation is effective on July 1, 2004.”

Dated: June 30, 2004.
Ann C. Agnew,
Executive Secretariat, Department of Health and Human Services.

[FR Doc. 04-15298 Filed 7-6-04; 8:45 am]

BILLING CODE 4184-01-M